DEPARTMENT OF COMMERCE

National Oceanic and Atmospheric Administration

Evaluation of Coastal Zone Management Programs and National Estuarine Research Reserves

AGENCY: Office of Ocean and Coastal Resource Management, National Ocean Service, National Oceanic and Atmospheric Administration (NOAA), DOC.

ACTION: Notice of Intent to Evaluate

SUMMARY: The NOAA Office of Ocean and Coastal Resource Management (OCRM) announces its intent to evaluate the performance of the Texas Coastal Zone Management Program, the South Carolina Coastal Zone Management Program and the Appalachicola Bay National Estuarine Research Reserve in Florida.

The Coastal Zone Management Program evaluations will be conducted pursuant to section 312 of the Coastal Zone Management Act of 1972 (CZMA), as amended and regulations at 15 CFR part 923. The National Estuarine Research Reserve evaluation will be conducted pursuant to section 315 of the Coastal Zone Management Act of 1972 (CZMA), as amended and regulations at 15 CFR part 921, Subpart E and part 923 Subpart L.

The CZMA requires continuing review of the performance of states with respect to coastal program and research reserve program implementation. Evaluation of Coastal Zone Management Programs and National Estuarine Research Reserves require findings concerning the extent to which a state has met the national objectives, adhered to its coastal program document or Reserve's final management plan approved by the Secretary of Commerce, and adhered to the terms of financial assistance awards funded under the CZMA.

The evaluations will include a site visit, consideration of public comments, and consultations with interested Federal, State, and local agencies and members of the public. Public meetings will be held as part of the site visits.

Notice is hereby given of the dates of the site visits for the listed evaluations, and the dates, local times, and locations of the public meetings during the site visits.

The South Carolina Coastal Zone Management Program evaluation site visit will be from December 4-8, 2000. three public meetings will be held during the week. The first will be held on Tuesday, December 5, 2000, from 7 to 9 p.m., at the Technical College of the Lowcountry Auditorium, 921 Ribault Road, Beaufort, South Carolina; the second will be held on Wednesday, December 6, 2000, from 7:00 to 9:00 p.m., at the South Carolina Department of natural Resources Marine Resources Lab, 217 Fort Johnson Road, James Island (Charleston), South Carolina; and, the third will be held on Thursday, December 7, 2000, from 7 to 9 p.m., at the Law Enforcement Center, Court Room A, 1101 Oak Street, Myrtle Beach, South Carolina.

The Texas Coastal Zone Management Program evaluation site visit will be from December 11-15, 2000. One public meeting will be held during the week. The public meeting will be held on Tuesday, December 12, 2000, at 6:30 p.m., at the University of Houston—Clear Lake, 2700 Bay Area Boulevard, Room 3332, Houston, Texas.

The Apalachicola Bay National Estuarine Research Reserve site visit will be from December 4-8, 2000. One public meeting will be held during the week. The public meeting will be held on Wednesday, December 6, 2000, at 6:00 p.m., at the Apalachicola Bay National Estuarine Research Reserve Education Center, 261 7th Street, Apalachicola Bay, Florida.

Copies of states' most recent performance reports, as well as OCRM's notifications and supplemental request letters to the states, are available upon request from OCRM. Written comments from interested parties regarding these Programs are encouraged and will be accepted until 15 days after the public meeting. Please direct written comments to Margo E. Jackson, deputy Director, Office of Ocean and Coastal Resource Management, NOS/NOAA, 1305 East-West Highway, 10th floor, Silver Spring, Maryland 20910. When the evaluations are completed, OCRM will place a notice in the Federal Register announcing the availability of the Final Evaluation Findings.

FOR FURTHER INFORMATION CONTACT: Margo E. Jackson, Deputy Director, Office of Ocean and Coastal Resource Management, NOS/NOAA, 1305 East-West Highway, Silver Spring, Maryland 20910, (301) 713-3155, Extension 114.

Federal Domestic Assistance Catalog 11.419 Coastal Zone Management Program Administration
Dated: October 24, 2000.
CAPT Ted I. Lillestolen,
Deputy Assistant Administrator for Ocean Services and Coastal Zone Management.

[FR Doc. 00-27680 Filed 10-25-00; 8:45 am]

BILLING CODE 3510--08-M